DEPARTMENT OF COMMERCE

International Trade Administration

[A-570-912]

Certain New Pneumatic Off-the-Road Tires From the People's Republic of China: Notice of Rescission of Changed Circumstances Review

AGENCY: Import Administration, International Trade Administration, Department of Commerce.

DATES: Effective Date: January 25, 2011.

SUMMARY: On June 16, 2010, the Department of Commerce (“the Department”) published in the Federal Register a notice of initiation of a changed circumstances review (“CCR”) of the antidumping duty order on certain new pneumatic off-the-road tires (“OTR tires”) from the People's Republic of China (“PRC”) in order to determine whether Shandong Linglong Tyre Co., Ltd. (“Shandong Linglong”) is the successor-in-interest to Zhaoyuan Leo Rubber Co., Ltd. (“Leo Rubber”) for the purpose of determining antidumping duty liability.¹ On December 8, 2010, Ling Long North America LLC, doing business as Atlas Tire, an affiliated importer of record and the requesting party, submitted a request to rescind this CCR. The Department is now rescinding this CCR.

¹ See Certain New Pneumatic Off-the-Road Tires from the People's Republic of China: Initiation of Changed Circumstances Review, 75 FR 34098 (June 16, 2010) (“Initiation Notice”).

FOR FURTHER INFORMATION CONTACT: Raquel Silva or Erin Begnal, AD/CVD Operations, Office 8, Import Administration, International Trade Administration, U.S. Department of Commerce, 14th Street and Constitution Avenue, NW., Washington, DC 20230; telephone: (202) 482-6475 or (202) 482-1442.

Background

On September 4, 2008, the Department published in the Federal Register an antidumping duty order on OTR tires from the PRC.² As part of the Order, Leo Rubber, as a separate rate respondent that was not individually reviewed, was granted separate rate status and received the weighted-average dumping margin of 12.91 percent.³

² See Certain New Pneumatic Off-the-Road Tires From the People's Republic of China: Notice of Amended Final Affirmative Determination of Sales at Less Than Fair Value and Antidumping Duty Order, 73 FR 51624 (September 4, 2008) (“Order”).

³ See id. at 51627.

On April 21, 2010, Atlas Tire filed a submission requesting that the Department conduct a CCR of the Order.⁴ On June 16, 2010, the Department initiated a CCR of the antidumping duty order on OTR tires.⁵ On December 8, 2010, Atlas Tire withdrew its request for a CCR.⁶

⁴ See Letter from Atlas Tire to the Department regarding: Certain New Pneumatic Off-The-Road Tires from the People's Republic of China, Request for Changed Circumstances Review, dated April 21, 2010.

⁵ See Initiation Notice.

⁶ See Letter from Atlas Tire to the Department regarding: Certain New Pneumatic Off-The-Road Tires from the People's Republic of China, Rescission Request, dated December 8, 2010.

Scope of the Order

The products covered by the order are new pneumatic tires designed for off-the-road (“OTR”) and off-highway use, subject to exceptions identified below. Certain OTR tires are generally designed, manufactured and offered for sale for use on off-road or off-highway surfaces, including but not limited to, agricultural fields, forests, construction sites, factory and warehouse interiors, airport tarmacs, ports and harbors, mines, quarries, gravel yards, and steel mills. The vehicles and equipment for which certain OTR tires are designed for use include, but are not limited to: (1) Agricultural and forestry vehicles and equipment, including agricultural tractors,⁷ combine harvesters,⁸ agricultural high clearance sprayers,⁹ industrial tractors,¹⁰ log-skidders,¹¹ agricultural implements, highway-towed implements, agricultural logging, and agricultural, industrial, skid-steers/mini-loaders;¹² (2) construction vehicles and equipment, including earthmover articulated dump products, rigid frame haul trucks,¹³ front end loaders,¹⁴ dozers,¹⁵ lift trucks, straddle carriers,¹⁶ graders,¹⁷ mobile cranes,¹⁸ compactors; and (3) industrial vehicles and equipment, including smooth floor, industrial, mining, counterbalanced lift trucks, industrial and mining vehicles other than smooth floor, skid-steers/mini-loaders, and smooth floor off-the-road counterbalanced lift trucks.¹⁹ The foregoing list of vehicles and equipment generally have in common that they are used for hauling, towing, lifting, and/or loading a wide variety of equipment and materials in agricultural, construction and industrial settings. Such vehicles and equipment, and the descriptions contained in the footnotes are illustrative of the types of vehicles and equipment that use certain OTR tires, but are not necessarily all-inclusive. While the physical characteristics of certain OTR tires will vary depending on the specific applications and conditions for which the tires are designed (e.g., tread pattern and depth), all of the tires within the scope have in common that they are designed for off-road and off-highway use. Except as discussed below, OTR tires included in the scope of the order range in size (rim diameter) generally but not exclusively from 8 inches to 54 inches. The tires may be either tube-type ²⁰ or tubeless, radial or non-radial, and intended for sale either to original equipment manufacturers or the replacement market. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. While HTSUS subheadings are provided for convenience and customs purposes, our written description of the scope is dispositive.

⁷ Agricultural tractors are dual-axle vehicles that typically are designed to pull farming equipment in the field and that may have front tires of a different size than the rear tires.

⁸ Combine harvesters are used to harvest crops such as corn or wheat.

⁹ Agricultural sprayers are used to irrigate agricultural fields.

¹⁰ Industrial tractors are dual-axle vehicles that typically are designed to pull industrial equipment and that may have front tires of a different size than the rear tires.

¹¹ A log-skidder has a grappling lift arm that is used to grasp, lift and move trees that have been cut down to a truck or trailer for transport to a mill or other destination.

¹² Skid-steer loaders are four-wheel drive vehicles with the left-side drive wheels independent of the right-side drive wheels and lift arms that lie alongside the driver with the major pivot points behind the driver's shoulders. Skid-steer loaders are used in agricultural, construction and industrial settings.

¹³ Haul trucks, which may be either rigid frame or articulated (i.e., able to bend in the middle) are typically used in mines, quarries and construction sites to haul soil, aggregate, mined ore, or debris.

¹⁴ Front loaders have lift arms in front of the vehicle. They can scrape material from one location to another, carry material in their buckets, or load material into a truck or trailer.

¹⁵ A dozer is a large four-wheeled vehicle with a dozer blade that is used to push large quantities of soil, sand, rubble, etc., typically around construction sites. They can also be used to perform “rough grading” in road construction.

¹⁶ A straddle carrier is a rigid frame, engine-powered machine that is used to load and offload containers from container vessels and load them onto (or off of) tractor trailers.

¹⁷ A grader is a vehicle with a large blade used to create a flat surface. Graders are typically used to perform “finish grading.” Graders are commonly used in maintenance of unpaved roads and road construction to prepare the base course onto which asphalt or other paving material will be laid.

¹⁸ i.e., “on-site” mobile cranes designed for off-highway use.

¹⁹ A counterbalanced lift truck is a rigid framed, engine-powered machine with lift arms that has additional weight incorporated into the back of the machine to offset or counterbalance the weight of loads that it lifts so as to prevent the vehicle from overturning. An example of a counterbalanced lift truck is a counterbalanced fork lift truck. Counterbalanced lift trucks may be designed for use on smooth floor surfaces, such as a factory or warehouse, or other surfaces, such as construction sites, mines, etc.

²⁰ While tube-type tires are subject to the scope of this proceeding, tubes and flaps are not subject merchandise and therefore are not covered by the scope of this proceeding, regardless of the manner in which they are sold (e.g., sold with or separately from subject merchandise).

Specifically excluded from the scope are new pneumatic tires designed, manufactured and offered for sale primarily for on-highway or on-road use, including passenger cars, race cars, station wagons, sport utility vehicles, minivans, mobile homes, motorcycles, bicycles, on-road or on-highway trailers, light trucks, and trucks and buses. Such tires generally have in common that the symbol “DOT” must appear on the sidewall, certifying that the tire conforms to applicable motor vehicle safety standards. Such excluded tires may also have the following designations that are used by the Tire and Rim Association:

Prefix Letter Designations

• P—Identifies a tire intended primarily for service on passenger cars;

• LT—Identifies a tire intended primarily for service on light trucks; and,

• ST—Identifies a special tire for trailers in highway service.

Suffix Letter Designations

• TR—Identifies a tire for service on trucks, buses, and other vehicles with rims having specified rim diameter of nominal plus 0.156″ or plus 0.250″;

• MH—Identifies tires for Mobile Homes;

• HC—Identifies a heavy duty tire designated for use on “HC” 15″ tapered rims used on trucks, buses, and other vehicles. This suffix is intended to differentiate among tires for light trucks, and other vehicles or other services, which use a similar designation.

• Example: 8R17.5 LT, 8R17.5 HC;

• LT—Identifies light truck tires for service on trucks, buses, trailers, and multipurpose passenger vehicles used in nominal highway service; and

• MC—Identifies tires and rims for motorcycles.

The following types of tires are also excluded from the scope: pneumatic tires that are not new, including recycled or retreaded tires and used tires; non-pneumatic tires, including solid rubber tires; tires of a kind designed for use on aircraft, all-terrain vehicles, and vehicles for turf, lawn and garden, golf and trailer applications. Also excluded from the scope are radial and bias tires of a kind designed for use in mining and construction vehicles and equipment that have a rim diameter equal to or exceeding 39 inches. Such tires may be distinguished from other tires of similar size by the number of plies that the construction and mining tires contain (minimum of 16) and the weight of such tires (minimum 1500 pounds).

Rescission of Changed Circumstances Review

Although it does not specifically reference changed circumstances reviews, section 351.213(d)(1) of the Department's regulations provides that the Department will rescind an administrative review if the party requesting the review withdraws its request within 90 days of the date of publication of the notice of initiation of the requested review. The Department's practice has been to apply this 90-day deadline to changed circumstances review rescission requests.²¹ However, 19 CFR 351.213(d)(1) also provides that the Department may extend the 90-day time limit for withdrawing the request for an administrative review if we determine that it is reasonable to do so. In this case, Atlas Tire requested a rescission of this review on December 8, 2010, which is beyond 90 days from the date of initiation. However, we note that no interested party, including the petitioner, has objected to Atlas Tire's rescission request. Additionally, the Department has not expended significant resources conducting this review. Therefore, we determine that it is reasonable to extend the 90-day time limit in this instance. Consequently, the Department has accepted Atlas Tire's rescission request in this case as timely and is now rescinding this CCR. U.S. Customs and Border Protection will continue to suspend entries of subject merchandise at the appropriate cash deposit rate for all entries of OTR tires from the PRC.

²¹ See, e.g., Certain Frozen Warmwater Shrimp from India: Notice of Rescission of Antidumping Duty Changed Circumstances Review, 75 FR 51756 (August 23, 2010).

Notification

This notice also serves as a final reminder to parties subject to administrative protective orders (“APOs”) of their responsibility concerning the disposition of proprietary information disclosed under APO in accordance with 19 CFR 351.305(a)(3). Timely written notification of the return/destruction of APO materials or conversion to judicial protective order is hereby requested. Failure to comply with the regulations and terms of an APO is a sanctionable violation.

This notice is published in accordance with sections 751(b)(1) and 777(i) of the Tariff Act of 1930, as amended, and 19 CFR 351.216.

Dated: January 14, 2011.
Gary Taverman,
Acting Deputy Assistant Secretary for Antidumping and Countervailing Duty Operations.

[FR Doc. 2011-1401 Filed 1-24-11; 8:45 am]

BILLING CODE 3510-DS-P